ENVIRONMENTAL PROTECTION AGENCY

[OPPTS-42212D; FRL-6806-3]

Endocrine Disruptor Method Validation Subcommittee Under the National Advisory Council for Environmental Policy and Technology; Notice of Public Meeting

AGENCY: Environmental Protection Agency (EPA).

ACTION: Notice.

SUMMARY: As mandated by the Federal Food, Drug, and Cosmetic Act, as amended by the Food Quality Protection Act of 1996, EPA is implementing an Endocrine Disruptor Screening Program (EDSP). As part of the implementation of EDSP, the Endocrine Disruptor Method Validation Subcommittee (EDMVS) under the National Advisory Council for Environmental Policy and Technology (NACEPT), a Federal Advisory Committee, has been established. This notice announces a 2-day meeting of the EDMVS. EDMVS will provide technical advice on the Tier 1 Screening and Tier 2 Testing methods for EPA's EDSP. The meeting is open to the public. Seating is on a first-come basis. Individuals requiring special accommodations at this meeting, including wheelchair access, should contact Jane Smith at the address listed under FOR FURTHER INFORMATION CONTACT at least 5 business days prior to the meeting, so appropriate arrangements can be made.

DATES: The 2-day meeting will be held on October 30, 2001, from 9 a.m. to 5:15 p.m. and October 31, 2001, from 9 a.m. to 12:30 p.m. Requests to participate in the meeting must be received on or before October 26, 2001.

ADDRESSES: The meeting will be held at the Hilton Washington Dulles Airport, 13869 Park Center Road, Herndon, VA 20171. The telephone number at the Hilton Washington is (703) 478-2900; the fax number is (703) 478-9286.

Requests to participate may be submitted by mail, electronically, or in person. Please follow the detailed instructions for each method as provided in Unit II. of the SUPPLEMENTARY INFORMATION. To ensure proper receipt by EPA, your request must identify docket control number OPPT-42212D in the subject line on the first page of your response.

FOR FURTHER INFORMATION CONTACT: Jane Smith, Designated Federal Official, Office of Science Coordination and Policy (7203), Environmental Protection Agency, 1200 Pennsylvania Ave., NW., Washington, DC 20460; telephone number: (202) 260-1597; fax number: (202) 401-1282; e-mail address: smith.jane-scott&epa.gov.

SUPPLEMENTARY INFORMATION:

I. Does This Action Apply to Me?

This action is directed to the public in general. This action may, however, be of interest if you produce, manufacture, use, consume, work with, or import pesticide chemicals, substances that may have an effect cumulative to an effect of a pesticide, or substances found in sources of drinking water. To determine whether you or your business may have an interest in this notice you should carefully examine section 408(p) of the Federal Food, Drug, and Cosmetic Act (FFDCA), as amended by the Food Quality Protection Act of 1996 (Public Law 104-170), 21 U.S.C. 346a (p) and amendments to the Safe Drinking Water Act (Public Law 104-182), 42 U.S.C. 300j-17. Since other entities may also be interested, the Agency has not attempted to describe all the specific entities that may be affected by this action. If you have any questions regarding the applicability of this action to a particular entity, consult the person listed under FOR FURTHER INFORMATION CONTACT.

II. How Can I Get Additional Information, Including Copies of This Document and Other Related Documents?

1. Electronically. A list of EDMVS members and the meeting agenda are now available. In addition, the Agency may provide additional background documents as the material becomes available. You may obtain electronic copies of these documents, and other related documents that may be available electronically, from the EPA Internet Home Page at http://www.epa.gov/scipoly/oscpendo. To access this document, on the Home Page select “Endocrine Disruptors” which will take you to the OSCP Endocrine Disruptor Screening Program web site. You can also go directly to the “Federal Register” listings at http://www.epa.gov/fedrgstr/.

2. In person. The Agency has established an administrative record for this meeting under docket control number OPPT-42212D. The administrative record consists of the documents specifically referenced in this notice, any public comments received during an applicable comment period, and other information related to Endocrine Disruptor Method Validation, including any information claimed as Confidential Business Information (CBI). This administrative record includes the documents that are physically located in the docket, as well as the documents that are referenced in those documents. The public version of the administrative record, which includes printed, paper versions of any electronic comments that may be submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

III. How Can I Request to Participate in this Meeting?

You may submit a request to participate in this meeting through the mail, in person, or electronically. Do not submit any information in your request that is considered CBI. Your request must be received by EPA on or before October 26, 2001. To ensure proper receipt by EPA, it is imperative that you identify docket control number OPPT-42212D in the subject line on the first page of your request.

1. By mail. You may submit a request to: Docket Control Office (7407), Office of Pollution Prevention and Toxics (OPPT), Environmental Protection Agency, 1200 Pennsylvania Ave., NW., Washington, DC 20460.

2. In person or by courier. You may deliver a request to: OPPT Docket Control Office, North East Mall Rm. B-607, Waterside Mall, 401 M St., SW., Washington, DC. The Docket Control Office is open from 8 a.m. to 4 p.m., Monday through Friday, excluding legal holidays. The telephone number of the Center is (202) 260-7099.

3. Electronically. You may submit your request electronically by e-mail to: oppt-ncic@epa.gov. Do not submit any information electronically that you consider to be CBI. Use WordPerfect 6.1/8.0 or ASCII file format and avoid the use of special characters and any form of encryption. Be sure to identify by docket control number OPPT-42212D. You may also file a request online at many Federal Depository Libraries.

IV. Meeting Overview

October 30, 2001

• Brief overview of NACEPT.

• Overview of the endocrine program at EPA—Validation: Process, program status and timeline, roles and relationships and illustration-utertrophic assay, public comment.

October 31, 2001

• EDMVS process.

• Next steps.

List of Subjects

Environmental protection, Endocrine disruptors.

Dated: October 4, 2001.
Vanessa Vu,
Director, Office of Science Coordination and Policy, Office of Prevention, Pesticides and Toxic Substances.

[FR Doc. 01-25679 Filed 10-9-01; 1:35 pm]

BILLING CODE 6560-50-S